DEPARTMENT OF HEALTH AND HUMAN SERVICES

Food and Drug Administration

[Docket No. 01P-0150]

Salad Dressing Deviating From Identity Standard; Temporary Permit for Market Testing

AGENCY: Food and Drug Administration, HHS.

ACTION: Notice.

SUMMARY: The Food and Drug Administration (FDA) is announcing the extension of a temporary permit issued to Kraft Foods, Inc., to market test products designated as “salad dressing” that deviate from the U.S. standard of identity for salad dressing. The extension will allow the permit holder to continue to collect data on the consumer acceptance of products, identify mass production problems, and assess commercial feasibility, in support of a petition to amend the standard of identity for salad dressing.

DATES: The new expiration date of the permit will be either the effective date of a final rule amending the standard of identity for salad dressing that may result from the petition or 30 days after denial of the petition, whichever the case may be.

FOR FURTHER INFORMATION CONTACT: Loretta A. Carey, Center for Food Safety and Applied Nutrition (HFS-822), Food and Drug Administration, 5100 Paint Branch Pkwy., College Park, MD 20740, 301-436-2371.

SUPPLEMENTARY INFORMATION: In accordance with § 130.17 (21 CFR 130.17), FDA issued a temporary permit to Kraft Foods, Inc., Three Lakes Dr., Northfield, IL 60093-2753, to market test products identified as “salad dressing” that deviate from the requirement of the standard of identity for salad dressing in 21 CFR 169.150 (66 FR 18957, April 12, 2001). The agency issued the permit to facilitate market testing of products that deviate from the requirements of the standard of identity for salad dressing issued under section 401 of the Federal Food, Drug, and Cosmetic Act (21 U.S.C. 341). The permit covers limited interstate market testing of products that deviate from the standard for salad dressing in 21 CFR 169.150. The products may contain potassium sorbate at levels not to exceed 1 percent, and must contain not less yolk-containing ingredient than is equivalent to 2 percent by weight of liquid egg yolks (the food standard requires 4 percent). The test product meets all the requirements of the standard with the exception of these deviations.

On April 19, 2002, Kraft Foods, Inc., requested that its temporary permit be extended to allow for additional time for the market testing of its products under the permit in order to gain additional information in support of the petition to amend the standard for salad dressing. The petitioner requests FDA to revise, simplify, and modernize the standard for salad dressing.

The agency finds that it is in the interest of consumers to issue an extension of the time period for the market testing of products identified as salad dressing to gain information on consumer expectations and acceptance. FDA is inviting interested persons to participate in the market test under the conditions that apply to Kraft Foods, Inc. (e.g., the composition of the test product), except for the designated area of distribution. Any person who wishes to participate in the extended market test must notify, in writing, the Team Leader, Conventional Foods Team, Division of Standards and Labeling Regulations, Office of Nutritional Products, Labeling and Dietary Supplements, Center for Food Safety and Applied Nutrition (HFS-822), Food and Drug Administration, 5100 Paint Branch Pkwy., College Park, MD 20740. The notification must include a description of the test products to be distributed, justification for the amount requested, the area of distribution, and the labeling that will be used for the test product (i.e., a draft label for each size of container and each brand of product to be market tested). The information panel of the label must bear nutrition labeling in accordance with 21 CFR 101.9. Each of the ingredients used in the food must be declared on the label as required by the applicable sections of 21 CFR part 101.

Therefore, under the provisions of § 130.17(i), FDA is extending the temporary permit granted to Kraft Foods, Inc., Three Lakes Dr., Northfield, IL 60093-2753 to provide for continued market testing of 150 million pounds of product on an annual basis. The test products will bear the name “salad dressing.” FDA is extending the expiration date of the permit so that the permit expires either on the effective date of a final rule amending the standard of identity for salad dressing that may result from the petition or 30 days after denial of the petition, which ever the case may be. All other conditions and terms of this permit remain the same.

Dated: December 9, 2002.
Christine Taylor,
Director, Office of Nutritional Products, Labeling and Dietary Supplements, Center for Food Safety and Applied Nutrition.

[FR Doc. 02-31720 Filed 12-17-02; 8:45 am]

BILLING CODE 4160-01-S